DEPARTMENT OF TRANSPORTATION

Federal Aviation Administration

14 CFR Part 39

[Docket No. FAA-2016-8185; Directorate Identifier 2016-NM-050-AD; Amendment 39-18940; AD 2017-13-10]

RIN 2120-AA64

Airworthiness Directives; Airbus Airplanes

AGENCY: Federal Aviation Administration (FAA), Department of Transportation (DOT).

ACTION: Final rule.

SUMMARY: We are superseding Airworthiness Directive (AD) 2003-18-06, which applied to certain Airbus Model A319-131 and -132 airplanes; Model A320-231, -232, and -233 airplanes; and Model A321-131 and -231 airplanes. AD 2003-18-06 required installing new anti-swivel plates and weights on the engine fan cowl door (FCD) latches and a new cowl door hold-open device. This AD retains the previous actions and requires modifying the engine FCDs, installing placards, and re-identifying the FCDs. This AD also adds airplanes to the applicability. This AD was prompted by reports of additional engine FCD in-flight losses, and a new FCD front latch and keeper assembly that has been developed to address this unsafe condition. We are issuing this AD to address the unsafe condition on these products.

DATES: This AD is effective August 3, 2017.

The Director of the Federal Register approved the incorporation by reference of a certain publication listed in this AD as of August 3, 2017.

The Director of the Federal Register approved the incorporation by reference of a certain other publication listed in this AD as of October 16, 2003 (68 FR 53501, September 11, 2003).

ADDRESSES: For service information identified in this final rule, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-8185.

Examining the AD Docket

You may examine the AD docket on the Internet at http://www.regulations.gov by searching for and locating Docket No. FAA-2016-8185; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Branch, ANM-116, Transport Airplane Directorate, FAA, 1601 Lind Avenue SW., Renton, WA 98057-3356; telephone: 425-227-1405; fax: 425-227-1149.

SUPPLEMENTARY INFORMATION:

Discussion

We issued a notice of proposed rulemaking (NPRM) to amend 14 CFR part 39 to supersede AD 2003-18-06, Amendment 39-13297 (68 FR 53501, September 11, 2003) (“AD 2003-18-06”). AD 2003-18-06 applied to certain Airbus Model A319-131 and -132 airplanes; Model A320-231, -232, and -233 airplanes; and Model A321-131 and -231 airplanes. The NPRM published in the Federal Register on August 5, 2016 (81 FR 51813). The NPRM was prompted by reports of additional engine FCD in-flight losses, and a new FCD front latch and keeper assembly that has been developed to address this unsafe condition. The NPRM proposed to continue to require installing new anti-swivel plates and weights on the engine FCD latches and a new cowl door hold-open device. The NPRM also proposed to require modifying the engine FCDs, installing placards, and re-identifying the FCDs with new part numbers. Additionally, the NPRM proposed to revise the applicability to include all Model A319-131 and -132 airplanes; Model A320-231, -232, and -233 airplanes; and Model A321-131 and -231 airplanes. We are issuing this AD to prevent in-flight loss of an engine FCD and possible consequent damage to the airplane.

The European Aviation Safety Agency (EASA), which is the Technical Agent for the Member States of the European Union, has issued EASA Airworthiness Directive 2016-0053, dated March 14, 2016 (referred to after this as the Mandatory Continuing Airworthiness Information, or “the MCAI”), to correct an unsafe condition for all Airbus Model A319-131 and -132 airplanes; Model A320-231, -232, and -233 airplanes; and Model A321-131 and -231 airplanes. The MCAI states:

Fan Cowl Door (FCD) losses during take-off were reported on aeroplanes equipped with IAE V2500 engines. Prompted by these occurences, [Direction Générale de l'Aviation Civile] DGAC France issued AD 2000-444-156(B), mandating FCD latch improvements. This [DGAC] AD was later superseded by [DGAC] AD 2001-381(B) [which corresponds to FAA AD 2003-18-06], requiring installation of additional fan cowl latch improvement by installing a hold open device.

Since that [DGAC] AD was issued, further FCD in flight losses were experienced in service. Investigations confirmed that in all cases, the fan cowls were opened prior to the flight and were not correctly re-secured. During the pre-flight inspection, it was then not detected that the FCD were not properly latched.

This condition, if not corrected, could lead to in-flight loss of a FCD, possibly resulting in damage to the aeroplane and/or injury to persons on the ground.

Prompted by these recent events, new FCD front latch and keeper assembly were developed, having a specific key necessary to un-latch the FCD. This key cannot be removed unless the FCD front latch is safely closed. The key, after removal, must be stowed in the flight deck at a specific location, as instructed in the applicable Aircraft Maintenance Manual. Applicable Flight Crew Operating Manual has been amended accordingly. After modification, the FCD is identified with a different Part Number (P/N).

For the reasons described above, this [EASA] AD retains the requirements of DGAC AD 2001-381(B), which is superseded, and requires modification and re-identification of FCD.

You may examine the MCAI in the AD docket on the Internet at http://www.regulations.gov by searching for and locating Docket No. FAA-2016-8185.

Comments

We gave the public the opportunity to participate in developing this AD. The following presents the comments received on the NPRM and the FAA's response to each comment.

Request To Withdraw the NPRM

United Airlines (UAL) stated that it strongly disagrees with making the new latch keys installation mandatory. UAL stated that each one of the fan cowl door losses during takeoff can be attributed solely to human error. UAL explained that the mechanics are not correctly latching the fan cowl after maintenance and the flight crews are not checking that the latches are secured before departure. UAL asserted that it did not believe that introduction of the new latch design would resolve human error problems. Historically, UAL noted, visual cues have proven ineffective, but other changes, especially dual inspection signoff, have proven much more effective. Therefore, instead of mandating the modification, UAL stated that more emphasis should be placed on addressing the root cause—not the design, but human error.

Further, UAL explained that the fan cowls are routinely accessed for engine and thrust reverser maintenance, and adding another loose piece of equipment to be maintained and stored on the airplane would lead to operational complications. UAL also noted that additional time would be added to accomplishing routine tasks after incorporation of the modification. In a case where the maintenance personnel are required to open the fan cowls, UAL contended that additional time would be required to access the cockpit, retrieve the key, and open the fan cowls, which would expose personnel and the airplane to further damage or harm. Mandating the modification, UAL argued, would impose an unnecessary financial and maintenance burden on operators that have proactively implemented alternate procedures.

UAL further stated that some airplanes in their Model A319 and Model A320 fleet are installed with monolithic FCDs which have some design advantages to mitigate the risks addressed in this AD. This AD does not include any modification instructions for these FCDs.

From these statements, we infer that UAL was requesting that we withdraw the NPRM. We do not agree with UAL's request. The EASA, as the State of Design Authority for Airbus products, has determined an unsafe condition exists after conducting a risk analysis taking into consideration the in-service events in the worldwide fleet. We agree with EASA's decision to mitigate the risk by mandating a new design that makes it apparent to the flight crew on a pre-flight walk-around that an FCD is not latched. Regarding the concern about operational complications, we have determined that the safety benefits of the new design outweigh any potential complications. UAL has not provided any substantiating information to support withdrawing the NPRM. If an operator believes that there are certain FCDs that cannot be modified in accordance with the AD requirements, then they may apply for an alternative method of compliance (AMOC) using the procedures specified in paragraph (m)(1) of this AD. We have not revised this AD in this regard.

Requests To Allow Continued Operation With a Lost or Damaged Key/Lock

UAL and American Airlines (AAL) requested that we add a provision in the proposed AD to allow continued operation with a damaged or missing key or damaged lock. UAL also stated that it disagrees with mandating the exact stowage location of the key and that it should be left to the operator's discretion where to store the key on the airplane. UAL pointed out that the key could become lost or damaged, and that it's possible the lock could become damaged, requiring the airplane to be taken out of service.

We disagree with the commenters. EASA has determined that proper stowage for retrieval of the key and a fully functional lock are necessary to mitigate the risk of losing an FCD in flight, and we agree with EASA's assessment. If relief is approved in the future, such as Master Minimum Equipment List (MMEL) relief, that allows continued operation with a damaged or missing key or damaged lock, we will consider additional rulemaking. An operator may also apply for an AMOC using the procedures specified in paragraph (m)(1) of this AD, provided they submit sufficient data to substantiate that the AMOC provides an acceptable level of safety. We have not revised this AD in this regard.

Requests To Remove Placard Installation Requirement

AAL requested that we revise the proposed AD to allow continued operation with a damaged or missing placard provided the placard is replaced within a specific time. AAL pointed out that a missing or damaged placard does not reduce flight safety. UAL also requested that the installation and location of the placard not be mandated. UAL explained that the placard itself does not prevent a fan cowl door loss event, nor does it raise awareness about the issue.

We disagree with the commenters. Installation of the placard is designed to ensure that the key is stowed in a particular location on board the airplane and can be consistently retrieved from that location when needed. However, an operator may apply for an AMOC using the procedures specified in paragraph (m)(1) of this AD, provided they can show they have an alternative means to ensure the key is stowed on board the airplane in a constantly retrievable and accessible location. We have not revised this AD in this regard.

Request To Revise Cost Estimate

AAL requested that we review the proposed cost estimate for significant economic impact as related to the actual costs of compliance. AAL asserted that the proposed cost estimate is underestimated and that the actual cost is nearly double the specified amount. AAL stated that two kits are required per airplane instead of the one kit estimated in the NPRM, and that the placard cost from Airbus is $50. AAL explained that the NPRM does not account for the cost of maintenance activities such as re-rigging all cowl latches during embodiment, or other recording, tracking, and supply chain costs. Additionally, AAL mentioned that U.S. operators are competing with operators worldwide for these parts, which could impact the availability of necessary parts.

We partially agree with AAL's request. We recognize that, in accomplishing the requirements of any AD, operators might incur “incidental” costs in addition to the “direct” costs that are reflected in the cost analysis presented in the AD preamble. However, the cost analysis in AD rulemaking actions typically does not include incidental costs. However, we have confirmed the need for two kits and the cost of the placards; therefore, we have revised this final rule to reflect the cost for two kits and placards.

Regarding the reference to a “significant economic impact,” according to Executive Order 12866, we are not required to do a full cost-benefit analysis for an AD unless it is considered a significant regulatory action. This AD is not a significant regulatory action because it does not have an annual effect on the economy of $100 million dollars or more; it does not create inconsistency with an action planned by another agency; it does not impact entitlements, grants, user fees or loan programs; and it does not raise novel legal or policy issues. However, the FAA does comply with Executive Order 12866 by assessing the costs and determining that correcting the unsafe condition justifies them. As a matter of law, in order to be airworthy, an aircraft must conform to its type design and be in a condition for safe operation. The type design is approved only after we determine that it complies with all applicable airworthiness requirements. In adopting and maintaining those requirements, we have already determined that they establish a level of safety that is cost beneficial. When we later make a finding of an unsafe condition in an aircraft and issue an AD, it means that the original cost-beneficial level of safety is no longer being achieved and that the required actions are necessary to restore that level of safety. Because this level of safety has already been determined to be cost beneficial, and because the AD does not add any additional regulatory requirement that increases the level of safety beyond what has been established by the type design, a full cost-benefit analysis would be redundant and unnecessary. We have not revised this AD in this regard.

Request To Exempt Certain Airplanes

Airbus requested that we revise the NPRM to exclude airplanes on which the following Airbus modifications were installed in production from the requirements of paragraph (g) of the proposed AD.

• Modifications 21948/P6222 and 30869.

• Modifications 24259/P6222 and 30869.

• Modifications 24259/P6222 and 24259/P6473.

We agree with excluding airplanes with these Airbus modifications that were installed during production. These modifications address the identified unsafe condition. These exempt airplanes were inadvertently omitted from paragraph (g) of the proposed AD. We have revised paragraph (g) of this AD accordingly.

Request To Extend Compliance Time

AAL requested that, due to the elapsed time needed to complete each airplane modification and the potential unavailability of modification kits to match the operator's modification schedule, we extend the compliance time for the new modification from 36 months to 48 months.

We do not agree with AAL's request to extend the compliance time. In developing an appropriate compliance time for this action, we considered the urgency associated with the subject unsafe condition, the availability of required parts, and the practical aspect of accomplishing the required modification within a period of time that corresponds to the normal scheduled maintenance for most affected operators. According to the manufacturer, adequate parts will be available to modify the U.S. fleet within the required compliance time. However, under the provisions of paragraph (m)(1) of this AD, we will consider requests for approval of an extension of the compliance time if sufficient data are submitted to substantiate that the new compliance time would provide an acceptable level of safety. We have not changed this AD in his regard.

Request To Use Later Revisions of the Service Information

AAL requested that we allow later revisions of Airbus Service Bulletin A320-71-1069, dated December 18, 2015, to be used as a method of compliance for the actions specified in paragraph (h) of the proposed AD.

We may not refer to any document that does not yet exist in an AD. In general terms, we are required by the Office of the Federal Register's (OFR) regulations to either publish the service document contents as part of the actual AD language; or submit the service document to the OFR for approval as “referenced” material, in which case we may only refer to such material in the text of an AD. The AD may refer to the service document only if the OFR approved it for “incorporation by reference.” See 1 CFR part 51.

To allow operators to use later revisions of the referenced document (issued after publication of the AD), either we must revise the AD to reference specific later revisions, or operators must request approval to use later revisions as an AMOC with this AD under the provisions of paragraph (m)(1) of this AD.

However, since we issued the NPRM, we have received Airbus Service Bulletin A320-71-1069, Revision 01, including Appendix 01, dated April 28, 2016. This revision clarifies a storage location for Groups 7 and 8 but specifies no additional work requirements from the previous issue (Airbus Service Bulletin A320-71-1069, dated December 18, 2015). Therefore, we have revised paragraph (h) of this AD to specify Airbus Service Bulletin A320-71-1069, Revision 01, including Appendix 01, dated April 28, 2016, as an appropriate source of service information for accomplishing the required actions. We have also added paragraph (l) to this AD to provide credit for actions required by paragraph (h) of this AD, if those actions were performed before the effective date of this AD using Airbus Service Bulletin A320-71-1069, dated December 18, 2015. We have redesignated subsequent paragraphs accordingly.

Conclusion

We reviewed the available data, including the comments received, and determined that air safety and the public interest require adopting this AD with the changes described previously and minor editorial changes. We have determined that these changes:

• Are consistent with the intent that was proposed in the NPRM for correcting the unsafe condition; and

• Do not add any additional burden upon the public than was already proposed in the NPRM.

Related Service Information Under 1 CFR Part 51

Airbus has issued Service Bulletin A320-71-1069, Revision 01, including Appendix 01, dated April 28, 2016. The service information describes procedures for modifying the engine FCDs, installing placards, and re-identifying the FCDs with new part numbers. This service information is reasonably available because the interested parties have access to it through their normal course of business or by the means identified in the ADDRESSES section.

Costs of Compliance

We estimate that this AD affects 558 airplanes of U.S. registry.

The actions required by AD 2003-18-06, and retained in this AD, take about 8 work-hours per product, at an average labor rate of $85 per work-hour. Required parts cost about $1,500 per product. Based on these figures, the estimated cost of the actions that are required by AD 2003-18-06 is $2,180 per product.

We also estimate that it takes about 6 work-hours per product to comply with the basic requirements of this AD. The average labor rate is $85 per work-hour. Required parts will cost about $9,676 per product. Based on these figures, we estimate the cost of this AD on U.S. operators to be $5,683,788, or $10,186 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2003-18-06, Amendment 39-13297 (68 FR 53501, September 11, 2003), and adding the following new AD:

2017-13-10 Airbus: Amendment 39-18940; Docket No. FAA-2016-8185; Directorate Identifier 2016-NM-050-AD.

(a) Effective Date

This AD is effective August 3, 2017.

(b) Affected ADs

This AD replaces AD 2003-18-06, Amendment 39-13297 (68 FR 53501, September 11, 2003), (“AD 2003-18-06”).

(c) Applicability

This AD applies to Airbus Model A319-131 and -132 airplanes; Model A320-231, -232, and -233 airplanes; and Model A321-131 and -231 airplanes; certificated in any category; all manufacturer serial numbers.

(d) Subject

Air Transport Association (ATA) of America Code 71, Powerplant.

(e) Reason

This AD was prompted by reports of engine fan cowl door (FCD) in-flight losses, and a new FCD front latch and keeper assembly that has been developed to address this unsafe condition. We are issuing this AD to prevent in-flight loss of an engine FCD and possible consequent damage to the airplane.

(f) Compliance

Comply with this AD within the compliance times specified, unless already done.

(g) Retained Modification and/or Installation, With No Changes

This paragraph restates the requirements of paragraph (a) of AD 2003-18-06, with no changes. For airplanes identified in paragraph (c) of this AD, except those airplanes on which Airbus Modifications 21948/P6222 and 30869, Modifications 24259/P6222 and 30869, or Modifications 24259/P6222 and 24259/P6473 have been installed in production: Within 18 months after October 16, 2003 (the effective date of AD 2003-18-06), do the action(s) specified in paragraph (g)(1) or (g)(2) of this AD, as applicable.

(1) For Configuration 01 airplanes identified in Airbus Service Bulletin A320-71-1028, dated March 23, 2001: Modify the door latches of the fan cowl of both engines (i.e., installation of new anti-swivel plates and weights), and install a new hold-open device, in accordance with the Accomplishment Instructions of Airbus Service Bulletin A320-71-1028, dated March 23, 2001.

(2) For Configuration 02 airplanes identified in Airbus Service Bulletin A320-71-1028, dated March 23, 2001: Install a new hold-open device, in accordance with the Accomplishment Instructions of Airbus Service Bulletin A320-71-1028, dated March 23, 2001.

(h) New Modifications

Within 36 months after the effective date of this AD, do the actions required by paragraphs (h)(1), (h)(2), and (h)(3) of this AD, in accordance with the Accomplishment Instructions of Airbus Service Bulletin A320-71-1069, Revision 01, including Appendix 01, dated April 28, 2016.

(1) Modify the left-hand and right-hand FCDs on engines 1 and 2.

(2) Install a placard on the box located at the bottom of the 120 VU panel or at the bottom of the coat stowage, as applicable.

(3) Re-identify both engine FCDs with the new part numbers (P/Ns), as specified in table 1 and table 2 to paragraph (h) of this AD, as applicable.

Table 1 to Paragraph (h) of This AD—Left-Side Door
Old part No. | New part No.
740-4000-501 | 740-4000-9501
740-4000-503 | 740-4000-9503
745-4000-501 | 745-4000-513
745-4000-503 | 745-4000-515
745-4000-505 | 745-4000-517

Table 2 to Paragraph (h) of This AD—Right-Side Door
Old part No. | New part No.
740-4000-502 | 740-4000-9502
740-4000-504 | 740-4000-9504
740-4000-506 | 740-4000-9506
740-4000-508 | 740-4000-9508
745-4000-502 | 745-4000-9502
745-4000-504 | 745-4000-9504
745-4000-506 | 745-4000-9506
745-4000-508 | 745-4000-514
745-4000-510 | 745-4000-516
745-4000-512 | 745-4000-518

(i) New Method of Compliance: Replacement

(1) Replacing an engine FCD having a part number listed as “Old Part Number” in table 1 to paragraph (h) of this AD or table 2 to paragraph (h) of this AD, as applicable, with an FCD having the corresponding part number listed as “New Part Number” in table 1 to paragraph (h) of this AD or table 2 to paragraph (h) of this AD, as applicable, is an acceptable method of compliance with the requirements of paragraphs (h)(1) and (h)(3) of this AD for that engine FCD only.

(2) An airplane on which Airbus Modification 157516 has been embodied in production is compliant with the requirements of paragraphs (h)(1) and (h)(3) of this AD, provided no engine FCD, having a part number identified as “Old Part Number” in table 1 to paragraph (h) of this AD or table 2 to paragraph (h) of this AD, as applicable, is installed on that airplane.

(3) An airplane on which Airbus Modification 157718 has been embodied in production is compliant with the requirements of paragraph (h)(2) of this AD.

(j) New Parts Installation Limitations

(1) For an airplane with an engine FCD installed having a part number identified as “Old Part Number” in table 1 to paragraph (h) of this AD or table 2 to paragraph (h) of this AD, as applicable: After modification of that airplane as required by paragraph (h) of this AD, do not install an engine FCD, having a part number identified as “Old Part Number” in table 1 to paragraph (h) of this AD or table 2 to paragraph (h) of this AD, as applicable.

(2) For an airplane that does not have an engine FCD installed having a part number identified as “Old Part Number” in table 1 to paragraph (h) of this AD or table 2 to paragraph (h) of this AD, as applicable: On or after the effective date of this AD, do not install an engine FCD, having a part number identified as “Old Part Number” in table 1 to paragraph (h) of this AD or table 2 to paragraph (h) of this AD, as applicable.

(k) New Method of Compliance: Installation

Installation on an engine of a right-hand and left-hand engine FCD having a part number approved after the effective date of this AD is a method of compliance with the requirements of paragraphs (g), (h)(1), and (h)(3) of this AD for that engine only, provided the part number is approved, and the installation is accomplished, in accordance with the procedures specified in paragraph (m)(2) of this AD.

(l) Credit for Previous Actions

This paragraph provides credit for actions required by paragraph (h) of this AD, if those actions were performed before the effective date of this AD using Airbus Service Bulletin A320-71-1069, dated December 18, 2015.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to the attention of the person identified in paragraph (n)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): Except as required by paragraph (k) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(n) Related Information

(1) Refer to Mandatory Continuing Airworthiness Information (MCAI) EASA Airworthiness Directive 2016-0053, dated March 14, 2016, for related information. This MCAI may be found in the AD docket on the Internet at http://www.regulations.gov by searching for and locating Docket No. FAA-2016-8185.

(2) For more information about this AD, contact Sanjay Ralhan, Aerospace Engineer, International Branch, ANM-116, Transport Airplane Directorate, FAA, 1601 Lind Avenue SW., Renton, WA 98057-3356; telephone: 425-227-1405; fax: 425-227-1149.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on August 3, 2017.

(i) Airbus Service Bulletin A320-71-1069, Revision 01, including Appendix 01, dated April 28, 2016.

(ii) Reserved.

(4) The following service information was approved for IBR on October 16, 2003 (68 FR 53501, September 11, 2003).

(i) Airbus Service Bulletin A320-71-1028, dated March 23, 2001.

(ii) Reserved.

(5) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on June 17, 2017.
Michael Kaszycki,
Acting Manager, Transport Airplane Directorate, Aircraft Certification Service.

[FR Doc. 2017-13409 Filed 6-28-17; 8:45 am]

BILLING CODE 4910-13-P